DEPARTMENT OF DEFENSE

Office of the Secretary

[Docket ID DoD-2022-OS-0044]

Submission for OMB Review; Comment Request

AGENCY: Office of the Under Secretary of Defense for Policy, Department of Defense (DoD).

ACTION: 30-Day information collection notice.

SUMMARY: The Department of Defense has submitted to OMB for clearance the following proposal for collection of information under the provisions of the Paperwork Reduction Act.

DATES: Consideration will be given to all comments received by August 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Security Assistance Network; OMB Control Number 0704-0555.

Type of Request: Extension.

Number of Respondents: 20,221.

Responses per Respondent: 1.

Annual Responses: 20,221.

Average Burden per Response: 30 minutes.

Annual Burden Hours: 10,110.5.

Needs and Uses: The information collection requirement is necessary to obtain information from International Military Students (IMS) who have been selected by their government to attend various trainings at DoD schools and DoD contracted facilities. The information collected is used to screen the IMS, determine his/her recreational activities, and ultimately prepare for the his/her arrival and stay in the U.S. Security Cooperation Officers collect this data from IMS over the phone and or in person. SCOs enter the information directly into the SAN network.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 24, 2022.
Aaron T. Siegel,
Alternate OSD Federal Register Liaison Officer, Department of Defense.

[FR Doc. 2022-13973 Filed 6-29-22; 8:45 am]

BILLING CODE 5001-06-P